NATIONAL SCIENCE FOUNDATION

DOE/NSF Nuclear Science Advisory Committee; Notice of Meeting

In accordance with the Federal Advisory Committee Act (Pub. L. 92-463, a amended), the National Science Foundation announces the following meeting.

Name: Nuclear Science Advisory Committee (1176).

Date and Time: Friday, May 30, 2003; 8 a.m.-5 p.m.

Place: Comfort Inn, 1211 N. Glebe Rd., Arlington, VA 22203.

Type of Meeting: Open.

Contact Person: Dr. Bradley D. Keister, Program Director for Nuclear Physics, National Science Foundation, 4201 Wilson Blvd., Arlington, VA 22230. Telephone: (703) 292-7377.

Purpose of Meeting: To provide advice and recommendations concerning the scientific programs of the NSF and DOE in the area of basic nuclear physics research.

Agenda: Introduction (R. Casten), Report from DOE, Report from NSF, Report from subcommittee on fundamental neutron science, Discussion of recommendations concerning fundamental neutron science, Status of subcommittees on education and nuclear theory, (Pending) Introduction of additional charges, Public Comment.

Dated: April 30, 2003.
Susanne Bolton,
Committee Management Officer.

[FR Doc. 03-11081 Filed 5-5-03; 8:45 am]

BILLING CODE 7555-01-M